DEPARTMENT OF DEFENSE

Office of the Secretary

Charter Amendment of Department of Defense Federal Advisory Committees—U.S. Air Force Scientific Advisory Board

AGENCY: Department of Defense (DoD).

ACTION: Charter amendment and name change of Federal Advisory Committee.

SUMMARY: DoD is publishing this notice to announce that it is amending the charter for the U.S. Air Force Scientific Advisory Board and changing its name to the Department of the Air Force Scientific Advisory Board (DAF SAB).

FOR FURTHER INFORMATION CONTACT: Jim Freeman, DoD Advisory Committee Management Officer, 703-692-5952.

SUPPLEMENTARY INFORMATION: The U.S. Air Force Scientific Advisory Board will now be known as the DAF SAB, and its charter is being amended in accordance with the Federal Advisory Committee Act (FACA) (5 U.S.C., Appendix) and 41 CFR 102-3.50(d). The charter and contact information for the DAF SAB's Designated Federal Officer (DFO) are found at https://www.facadatabase.gov/FACA/apex/FACAPublicAgency Navigation.

The DAF SAB provides the Secretary of Defense and Deputy Secretary of Defense with independent advice and recommendations on matters supporting the Department of the Air Force's (DAF) scientific and technical enterprise and specifically on matters pertaining to (a) conducting studies on topics deemed critical by the Secretary of the Air Force; (b) recommending applications of technology to improve DAF capabilities; and (c) providing independent reviews of the quality and relevance of the DAF science and technology (S&T) programs. The DAF SAB is composed of no more than 20 members who are eminent authorities in the fields of defense and/or S&T. These members come from varied backgrounds such as science, technology, manufacturing, acquisition, logistics, public or private sector business management, Federally Funded Research and Development Centers, National Laboratories, and academia (universities and colleges).

Individual members are appointed according to DoD policy and procedures, and serve a term of service of one-to-four years with annual renewals. One member will be appointed as Chair of the DAF SAB. No member, unless approved according to DoD policy and procedures, may serve more than two consecutive terms of service on the DAF SAB, or serve on more than two DoD Federal advisory committees at one time.

DAF SAB members who are not full-time or permanent part-time Federal civilian officers or employees, or active duty members of the Uniformed Services, are appointed as experts or consultants, pursuant to 5 U.S.C. 3109, to serve as special government employee members. DAF SAB members who are full-time or permanent part-time Federal civilian officers or employees, or active duty members of the Uniformed Services are appointed pursuant to 41 CFR 102-3.130(a), to serve as regular government employee members.

All DAF SAB members are appointed to provide advice based on their best judgment without representing any particular point of view and in a manner that is free from conflict of interest. Except for reimbursement of official DAF SAB-related travel and per diem, members serve without compensation.

The public or interested organizations may submit written statements about the DAF SAB's mission and functions. Written statements may be submitted at any time or in response to the stated agenda of planned meeting of the DAF SAB. All written statements shall be submitted to the DFO for the DAF SAB, and this individual will ensure that the written statements are provided to the membership for their consideration.

Dated: February 4, 2022.
Aaron T. Siegel,
Alternate OSD Federal Register Liaison Officer, Department of Defense.

[FR Doc. 2022-02735 Filed 2-8-22; 8:45 am]

BILLING CODE 5001-06-P